DEPARTMENT OF COMMERCE

National Institute of Standards and Technology

[Notice 2]

National Fire Codes: Request for Proposals for Revision of Codes and Standards

AGENCY: National Institute of Standards and technology, Commerce.

ACTION: Notice.

SUMMARY: The National Fire Protection Association (NEPA) proposes to revise some of its fire safety codes and standards and requests proposals from the public to amend existing or begin the process of developing new NFPA fire safety codes and standards. The purpose of this request is to increase public participation in the system used by NFPA to develop its codes and standards. The publication of this notice by the National Institute of Standards and Technology (NIST) on behalf of NFPA is being undertaken as a public service; NIST does not necessarily endorse, approve, or recommend any of the standards referenced in the notice.

DATES: Interested persons may submit proposals on or before the dates listed with the standards.

ADDRESSES: Casey C. Grant, Secretary, Standards Council, NFPA, 1 Batterymarch Park, Quincy, Massachusetts 02269-9101.

FOR FURTHER INFORMATION CONTACT: Casey C. Grant, Secretary, Standards Council, at above address, and by phone (617) 770-3000.

SUPPLEMENTARY INFORMATION:

Background

The National Fire Protection Association (NFPA) develops building, fire, and electrical safety codes and standards. Federal agencies frequently use these codes and standards as the basis for developing Federal regulations concerning fire safety. Often, the Office of the Federal Register approves the incorporation by reference of these standards under 5 U.S.C. 552(a) and 1 CFR Part 51.

Request for Proposals

Interested persons may submit proposals, supported by written data, views, or arguments to Casey C. Grant, Secretary, Standards Council, NFPA, 1 Batterymarch Park, Quincy, Massachusetts 02269-9101. Proposals should be submitted on forms available from the NFPA Codes and Standards Administration Office.

Each person must include his or her name and address, identify the document and give reasons for the proposal. Proposals received before 5:00 PM local time on the closing date indicated would be acted on by the Committee. The NFPA will consider any proposal that it receives on or before the date listed with the code or standards.

At a later date, each NFPA Technical Committee will issue a report, which will include a copy of written proposals that have been received, and an account of the disposition of each proposal by the NFPA Committee as the Report on Proposals. Each person who has submitted a written proposal will receive a copy of the report.

Dated: July 5, 2001.
Karen Brown,
Acting Director.

NFPA No. | Title | Proposal closing date
NFPA 14-2000 | Standard for the Installation of Standpipe, Private Hydrants, and Hose Systems | 7/6/2001
NFPA 16-1999 | Standard for the Installation of Foam-Water Sprinkler and Foam-Water Spray Systems | 7/6/2001
NFPA 20-1999 | Standard for the Installation of Stationary Pumps for Fire Protection | 12/28/2001
NFPA 22-1998 | Standard for Water Tanks for Private Fire Protection | 7/6/2001
NFPA 30A-2000 | Code for Motor Fuel Dispensing Facilities and Repair Garages | 12/28/2001
NFPA 50A-1999 | Standard for Gaseous Hydrogen Systems at Consumer Sites | 6/28/2002
NFPA 50B-1999 | Standard for Liquefied Hydrogen Systems at Consumer Sites | 6/28/2002
NFPA 51B-1999 | Standard for Fire Prevention During Welding, Cutting, and Other Hot Work | 12/28/2001
NFPA 55-1998 | Standard for the Storage, Use, and Handling of Compressed and Liquefied Gases in Portable Cylinders | 7/6/2001
NFPA 80-1999 | Standard for Fire Doors and Fire Windows | 8/1/2001
NFPA 85-2001 | Boiler and Combustion Systems Hazards Code | 6/28/2002
NFPA 86-1999 | Standard for Ovens and Furnaces | 12/28/2001
NFPA 86C-1999 | Standard for Industrial Furnaces Using a Special Processing Atmosphere | 12/28/2001
NFPA 88B-1997 | Standard for Repair Garages | 7/6/2001
NFPA 97-2000 | Standard Glossary of Terms Relating to Chimneys, Vents, and Heat-Producing Appliances | 7/6/2001
NFPA 105-1999 | Recommended Practice for the Installation of Smoke-Control Door Assemblies | 7/6/2001
NFPA 123-1999 | Standard for Fire Prevention and Control in Underground Bituminous Coal Mines | 7/6/2001
NFPA 130-2000 | Standard for Fixed Guideway Transit and Passenger Rail Systems | 7/6/2001
NFPA 140-1999 | Standard for Motion Picture and Television Production Studio Soundstages and Approved Production Facilities | 7/6/2001
NFPA 211-2000 | Standard for Chimneys, Fireplaces, Vents, and Solid Fuel-Burning Appliances | 7/6/2001
NFPA 225-P ¹ | Standard for Manufactured Home Sites, Communities, and Setups | 7/6/2001
NFPA 230-1999 | Standard for the Fire Protection of Storage | 7/6/2001
NFPA 252-1999 | Standard Methods of Fire Tests of Door Assemblies | 12/28/2001
NFPA 256-1998 | Standard Methods of Fire Tests of Roof Coverings | 7/6/2001
NFPA 259-1998 | Standard Test Method for Potential Heat of Building Materials | 7/6/2001
NFPA 260-1998 | Standard Methods of Tests and Classification System for Cigarette Ignition Resistance of Components of Upholstered Furniture | 12/28/2001
NFPA 261-1998 | Standard Method of Test for Determining Resistance of Mock-Up Upholstered Furniture Material Assemblies to Ignition by Smoldering Cigarettes | 12/28/2001
NFPA 272-1999 | Standard Method of Test for Heat and Visible Smoke Release Rates for Upholstered Furniture Components or Composites and Mattresses Using an Oxygen Consumption Calorimeter | 7/6/2001
NFPA 285-1998 | Standard Method of Test for the Evaluation of Flammability Characteristics of Exterior Non-Load-Bearing Wall Assemblies Containing Combustible Components Using the Intermediate-Scale, Multistory Test Apparatus | 12/28/2001
NFPA 295-1998 | Standard for Wildfire Control | 12/28/2001
NFPA 302-1998 | Fire Protection Standard for Pleasure and Commercial Motor Craft | 12/28/2001
NFPA 497-1997 | Recommended Practice for the Classification of Flammable Liquids, Gases, or Vapors and of Hazardous (Classified) Locations for Electrical Installations in Chemical Process Areas | 7/6/2001
NFPA 499-1997 | Recommend Practice for the Classification of Combustible Dusts and of Hazardous (Classified) Locations for Electrical Installations in Chemical Process Areas | 7/6/2001
NFPA 501-2000 | Standard on Manufactured Housing | 7/6/2001
NFPA 501A-2000 | Standard for Fire Safety Criteria for Manufactured Home Installations, Sites, and Communities | 7/6/2001
NFPA 551-P ¹ | Guide for the Evaluation of Fire Risk Assessments | 6/28/2002
NFPA 720-1998 | Recommended Practice for the Installation of Carbon Monoxide (CO) and Fuel Gas Alarm Systems and Equipment | 7/6/2001
NFPA 750-2000 | Standard on Water Mist Fire Protection Systems | 7/6/2001
NFPA 801-1998 | Standard for Fire Protection for Facilities Handling Radioactive Materials | 7/6/2001
NFPA 1006-2000 | Standard for Rescue Technician Professional Qualifications | 7/6/2001
NFPA 1141-1998 | Standard for Fire Protection in Planned Building Groups | 12/28/2001
NFPA 1670-1999 | Standard on Operations and Training for Technical Rescue Incidents | 6/28/2002
NFPA 1901-1999 | Standard for Automotive Fire Apparatus | 9/28/2001
NFPA 1965-P ¹ | Standard for Hose Connected Appliances | 12/28/2001
NFPA 1977-1998 | Standard on Protective Clothing and Equipment for Wildland Fire Fighting | 12/31/2001
¹ Proposed NEW drafts are available form NFPA's Website—www.nfpa.org or may be obtained form NFPA's Codes and Standards Administration, 1 Batterymarch Park, Quincy, MA 02269.

[FR Doc. 01-17299 Filed 7-10-01; 8:45 am]

BILLING CODE 3510-13-M